DEPARTMENT OF THE INTERIOR

Fish and Wildlife Service

Post Ranch Inn Habitat Conservation Plan, Monterey County, CA

AGENCY: Fish and Wildlife Service, Interior.

ACTION: Notice of availability.

SUMMARY: The Post Ranch Limited Partnership (Applicant) has applied to the Fish and Wildlife Service (Service) for an incidental take permit pursuant to section 10(a)(1)(B) of the Endangered Species Act of 1973, as amended (Act). The proposed permit would authorize take of the federally endangered Smith's blue butterfly (Euphilotes enoptes smithi) and federally threatened California red-legged frog (Rana aurora draytonii) incidental to otherwise lawful activities associated with the expansion and operation of an existing inn, which would remove 0.003 acre of Smith's blue butterfly habitat and 0.826 acre of California red-legged frog upland habitat within a 91.98 acre parcel in Big Sur, Monterey County, California.

We invite comments from the public on the permit application, which is available for review. The application includes a Habitat Conservation Plan (HCP), that fully describes the proposed project and the measures that the applicant would undertake to minimize and mitigate anticipated take of the Smith's blue butterfly and California red-legged frog, as required in section 10(a)(2)(B) of the Act.

We also invite comments on our preliminary determination that the HCP qualifies as a “low-effect” plan, eligible for a categorical exclusion under the National Environmental Policy Act. We explain the basis for this possible determination in a draft Environmental Action Statement, which is also available for public review.

DATES: Written comments must be received no later than July 12, 2006.

ADDRESSES: Written comments should be addressed to Diane Noda, Field Supervisor, Ventura Fish and Wildlife Office, 2493 Portola Road, Suite B, Ventura, California 93003. Comments may also be sent by facsimile to (805) 644-3958.

FOR FURTHER INFORMATION CONTACT: Jacob Martin, Fish and Wildlife Biologist, at the above address or by calling (805) 644-1766.

SUPPLEMENTARY INFORMATION:

Document Availability

Please contact the Ventura Fish and Wildlife Office (see ADDRESSES) if you would like copies of the application, HCP, and Environmental Action Statement. Documents will also be available for review by appointment, during normal business hours, at the Ventura Fish and Wildlife Office (see ADDRESSES) or via the Internet at http://www.fws.gov/ventura.

Background

Section 9 of the Act and Federal regulations prohibit the “take” of fish or wildlife species listed as endangered or threatened, respectively. Take of listed fish or wildlife is defined under the Act to mean harass, harm, pursue, hunt, shoot, wound, kill, trap, capture, or collect, or to attempt to engage in any such conduct. However, the Service, under limited circumstances, may issue permits to cover incidental take, i.e., take that is incidental to, and not the purpose of, the carrying out of an otherwise lawful activity. Regulations governing incidental take permits for threatened and endangered species are found at 50 CFR 17.32 and 17.22, respectively. Among other criteria, issuance of such permits must not jeopardize the existence of federally listed fish, wildlife, or plants.

The Post Ranch Inn is located on a 91.98 acre parcel between California Highway 1 and the Pacific Ocean, approximately 1 mile south of Pfeiffer Big Sur State Park, in Big Sur, Monterey County, California.

The applicant proposes to construct additional facilities within the existing inn complex, including new inn units, new yoga/spa buildings, a central services facility, employee housing, and a maintenance/shop building. Expansion activities, including disturbance due to construction, construction staging, and fuels management, would occur within 5.136 acres. Approximately 72 percent (3.701 of 5.136 acres) of the disturbance would occur within areas that are already developed, landscaped, or dominated by invasive plants. Thirteen plant communities occur within the 91.98 acre site, including California sagebrush (Artemesia californica) scrub, coyote brush (Baccharis spp.) scrub, broom (Genista spp.) scrub, coastal terrace prairie, California oatgrass (Danthonia californica) bunchgrass (Nassella spp. and Festuca spp.) grassland, California annual grassland, sedge seep, freshwater marsh, pondweed (Potamogeton nodosus) with floating leaves wetland, arroyo willow (Salix lasiolepis) riparian forest, California sycamore (Platanus racemosa) woodland, and coast live oak (Quercus agrifolia) forest. Disturbed areas also exist at the site, such as the existing roads, buildings, parking, and landscaped areas.

There are areas of California sagebrush scrub and California annual grassland in the southwestern portion of the Post Ranch Inn property that include seacliff buckwheat (Eriogonum parvifolium), a food plant used by all life stages of the Smith's blue butterfly. Surveys in July of 2000 indicated that these areas are occupied by the Smith's blue butterfly. The proposed expansion would remove a small area (0.003 acre) of California sagebrush scrub habitat that either currently contains or could be easily colonized by adjacent seacliff buckwheat. This removal could result in take of Smith's blue butterflies. Additional seacliff buckwheat plants may be removed due to management activities, including clearance of fire breaks, invasive plant removal, and habitat restoration and enhancement. There is also a pond in the central portion of the Post Ranch Inn property. Ongoing surveys, which began in 2000, have demonstrated that this pond is occupied by California red-legged frogs. Up to 52 adult and subadult California red-legged frogs have been observed per survey. Expansion activities would not occur within the pond, but would impact 0.826 acre of upland habitat expected to be used by California red-legged frogs. Due to presence of the Smith's blue butterfly and California red-legged frog and expected impacts on their habitat, the Service concluded that the proposed expansion would likely result in take of these species and recommended that the applicant apply for an incidental take permit.

The applicant proposes to implement measures to minimize and mitigate for take of the Smith's blue butterfly and California red-legged frog within the project site. Specifically, they propose to: (1) Protect in perpetuity 36.1 acres within the Post Ranch Inn parcel via a conservation easement; (2) provide funding for monitoring of the easement area in perpetuity; (3) improve existing habitat by removing invasive plants and establishing at least 200 mature seacliff buckwheat plants within the easement area; (4) remove invasive species, including bullfrogs (Rana catesbeiana), mosquitofish (Gambusia affinis), and crayfish (Pacifastacus spp.) from the on-site pond; and (5) undertake various measures (including fencing of construction areas and providing a biological monitor) during grading and construction activities at the project site to minimize impacts to both listed species and their habitats.

The Service's proposed action is to issue an incidental take permit to the applicant who would then implement the HCP. The HCP includes measures to minimize and mitigate impacts of the project on the Smith's blue butterfly and California red-legged frog. Two alternatives to the taking of listed species under the proposed action are considered in the HCP. Under the No-Action alternative, the proposed expansion would not occur and the HCP would not be implemented. This would avoid the immediate effects of habitat removal on the Smith's blue butterfly and California red-legged frog. However, without the HCP, habitat for the Smith's blue butterfly and California red-legged frog on the project site likely would decline as a result of threats from invasive plants and animals. This alternative would also result in an unnecessary economic burden on the applicant.

Under the Redesigned Project alternative, the development footprint for the project would be reduced or relocated to another portion of the site, thus reducing or altering the area of impacted habitat for the Smith's blue butterfly and California red-legged frog. Alternate locations for new construction are limited within the Post Ranch Inn parcel due to the presence of steep slopes, an existing scenic easement on the east side of the parcel, and a desire to avoid removal of native trees. These constraints leave only areas of annual grassland and an existing orchard as alternate construction sites. Use of these sites could potentially reduce the amount of Smith's blue butterfly and California red-legged frog habitat impacted, but would also require extension of roads, which would partially offset any improvements achieved through the relocation. Given the small amount of Smith's blue butterfly and California red-legged frog habitat that would be removed by the proposed expansion (0.003 acre and 0.826 acre, respectively), a reduction in the development envelope would not substantially improve post-project conditions for the Smith's blue butterfly and California red-legged frog on the site. Construction and on-going use of the site would still affect both species, even if the proposed expansion were reduced in size. Due to the constraints on alternate construction locations and the already small amount of listed species' habitat impacted by the project as proposed, we do not expect that relocation or reduction of the proposed construction would substantially benefit the Smith's blue butterfly or California red-legged frog. This alternative would also result in an unnecessary economic burden on the applicant.

The Service has made a preliminary determination that the HCP qualifies as a “low-effect” plan as defined by our Habitat Conservation Planning Handbook (November 1996). Our determination that a habitat conservation plan qualifies as a low-effect plan is based on the following three criteria: (1) Implementation of the plan would result in minor or negligible effects on federally listed, proposed, and candidate species and their habitats; (2) implementation of the plan would result in minor or negligible effects on other environmental values or resources; and (3) impacts of the plan, considered together with the impacts of other past, present and reasonably foreseeable similarly situated projects would not result, over time, in cumulative effects to environmental values or resources which would be considered significant. As more fully explained in our Environmental Action Statement, the applicant's proposal to expand the Post Ranch Inn qualifies as a “low-effect” plan for the following reasons:

(1) Approval of the HCP would result in minor or negligible effects on the Smith's blue butterfly and California red-legged frog and their habitats. The Service does not anticipate significant direct or cumulative effects to the Smith's blue butterfly or California red-legged frog resulting from the proposed development of the project site.

(2) Approval of the HCP would not have adverse effects on unique geographic, historic or cultural sites, or involve unique or unknown environmental risks.

(3) Approval of the HCP would not result in any cumulative or growth-inducing impacts and would not result in significant adverse effects on public health or safety.

(4) The project does not require compliance with Executive Order 11988 (Floodplain Management), Executive Order 11990 (Protection of Wetlands), or the Fish and Wildlife Coordination Act, nor does it threaten to violate a Federal, State, local or tribal law or requirement imposed for the protection of the environment.

(5) Approval of the HCP would not establish a precedent for future actions or represent a decision in principle about future actions with potentially significant environmental effects.

The Service therefore has made a preliminary determination that approval of the HCP qualifies as a categorical exclusion under the National Environmental Policy Act, as provided by the Department of the Interior Manual (516 DM 2, Appendix 1 and 516 DM 6, Appendix 1). Based upon this preliminary determination, we do not intend to prepare further National Environmental Policy Act documentation. The Service will consider public comments in making its final determination on whether to prepare such additional documentation.

The Service provides this notice pursuant to section 10(c) of the Endangered Species Act. We will evaluate the permit application, the HCP, and comments submitted thereon to determine whether the application meets the requirements of section 10 (a) of the Act. If the requirements are met, the Service will issue a permit to the applicant. We will make the final permit decision no sooner than 30 after the date of publication of this notice.

Dated: June 6, 2006.
Diane K. Noda,
Field Supervisor, Ventura Fish and Wildlife Office, Ventura, California.

[FR Doc. E6-9066 Filed 6-9-06; 8:45 am]

BILLING CODE 4310-55-P